DEPARTMENT OF AGRICULTURE

Forest Service

Lake Tahoe Basin Advisory Committee

AGENCY: Forest Service, USDA.

ACTION: Notice, renewal of charter, and request for nominations.

SUMMARY: The Secretary of Agriculture intends to renew the charter of the Lake Tahoe Federal Advisory Committee, chartered under the Federal Advisory Committee Act, to provide advice to the Secretary of Agriculture on implementing the terms of the Federal Interagency Partnership on the Lake Tahoe Region. Nominations of persons to serve on the Committee are invited.

DATES: Nominations for membership on the Committee must be received in writing by February 1, 2002.

ADDRESSES: Send nominations and applications with telephone numbers for membership on the Committee to: FACA Nomination, Lake Tahoe Basin Management Unit, 870 Emerald Bay Road, South Lake Tahoe, California 96150.

FOR FURTHER INFORMATION CONTACT: Maribeth Gustafson, Forest Supervisor, or Jeannie Stafford, Environmental Improvement Program and Partnership Liaison, Lake Tahoe Basin Management Unit, telephone (530) 573-2773.

SUPPLEMENTARY INFORMATION: Pursuant to the Federal Advisory Committee Act (5 U.S.C. App.), notice is hereby given that the Secretary of Agriculture intends to renew the charter of the Lake Tahoe Basin Federal Advisory Committee. The purpose of the Committee is to provide advice to the Secretary of Agriculture on implementing the terms of the Federal Interagency Partnership on the Lake Tahoe Basin and other matters raised by the Secretary.

The Secretary has determined that the work of the Committee is in the public interest and relevant to the duties of the Department of Agriculture.

The Committee will meet on a quarterly basis, conducting public meetings to discuss management strategies, gather information and review federal agency accomplishments, and prepare a progress report every six months for submission to regional federal executives. Representatives will be selected from the following sectors: (1) Gaming, (2) environmental, (3) national environmental, (4) ski resorts, (5) North Shore economic/recreation, (6) South Shore economic/recreation, (7) resort associations, (8) education, (9) property rights advocates, (10) member-at-large, (11) member-at-large, (12) science and research, (13) local government, (14) Washoe Tribe, (15) State of California, (16) State of Nevada, (17) Tahoe Regional Planning Agency, (18) labor, (19) transportation, and (20) member-at-large. Nominations to the Committee should describe and document the proposed member's qualifications for membership on the Lake Tahoe Basin Advisory Committee. The Committee Chair will be recommended by the Committee and approved by the Secretary. Vacancies on the Committee will be filled in the manner in which the original appointment was made.

Appointments to the Committee will be made by the Secretary of Agriculture. Equal opportunity practices, in line with USDA policies, will be followed in all appointments to the Committee. To ensure that the recommendations of the Committee have taken into account the needs of the diverse groups served by the Department, membership should include to the extent practicable individuals with demonstrated ability to represent minorities, women, persons with disabilities, and senior citizens.

Dated: December 21, 2001.
Maribeth Gustafson,
Acting Forest Supervisor.

[FR Doc. 01-32138 Filed 12-31-01; 8:45 am]

BILLING CODE 3410-11-M